DEPARTMENT OF STATE

[Public Notice 7814]

Shipping Coordinating Committee; Notice of Committee Meeting

The Shipping Coordinating Committee (SHC) will conduct an open meeting at 9:30 a.m. on Wednesday, April 25, 2012, in Room 2501 of the United States Coast Guard Headquarters Building, 2100 Second Street SW., Washington, DC 20593-7126. The primary purpose of the meeting is to prepare for the 90th Session of the International Maritime Organization's (IMO) Marine Safety Committee to be held at the IMO Headquarters, London, England, United Kingdom, May 16-25, 2012.

The primary matters to be considered include:

Consideration and adoption of amendments to mandatory instruments;

Measures to enhance maritime security;

Goal-based new ship construction standards;

LRIT-related matters;

Flag State implementation;

Radiocommunications and search and rescue;

Ship design and equipment;

Safety of navigation;

Fire protection;

Dangerous goods, solid cargoes and containers;

Stability, load lines and fishing vessel safety;

Bulk liquids and gases;

Implementation of the STCW Convention;

Technical assistance sub-programme in maritime safety and security;

Capacity-building for the implementation of new measures;

Role of the human element;

Formal safety assessment;

Piracy and armed robbery against ships;

General cargo ship safety;

Implementation of instruments and related matters;

Relations with other organizations;

Application of the Committee's Guidelines;

Passenger ship safety.

Members of the public may attend this meeting up to the seating capacity of the room. To facilitate the building security process, and to request reasonable accommodation, those who plan to attend should contact the meeting coordinator, LCDR Matthew Frazee, by email at imo@uscg.mil, by phone at (202) 372-1376, or in writing at Commandant (CG-52), U.S. Coast Guard, 2100 2nd Street SW., Stop 7126, Washington, DC 20593-7126 not later than April 18, 2012, 7 days prior to the meeting. Requests made after April 18, 2012 might not be able to be accommodated. Please note that due to security considerations, two valid, government issued photo identifications must be presented to gain entrance to the Headquarters building. The Headquarters building is accessible by taxi and privately owned conveyance (public transportation is not generally available). However, parking in the vicinity of the building is extremely limited. Additional information regarding this and other IMO SHC public meetings may be found at: www.uscg.mil/imo.

Dated: March 29, 2012.
Brian Robinson,
Executive Secretary, Shipping Coordinating Committee, Department of State.

[FR Doc. 2012-8636 Filed 4-9-12; 8:45 am]

BILLING CODE 4710-09-P